DEPARTMENT OF COMMERCE

National Oceanic and Atmospheric Administration

RIN 0648-AT31

American Lobster Fishery Management

AGENCY: National Marine Fisheries Service (NMFS), National Oceanic and Atmospheric Administration (NOAA), Commerce.

ACTION: Notice of public meetings; request for comments.

SUMMARY: NMFS has prepared a draft environmental impact statement (DEIS) that identifies several proposed management actions and alternatives for the American lobster fishery in Federal waters. The management actions are based on recommendations to NMFS by the Atlantic States Marine Fisheries Commission (Commission) as part of the Commission's Interstate Fishery Management Plan for American Lobster (ISFMP). Two of the three proposed management measures evaluated in the DEIS would implement limited access programs (LAPs), limiting future access in two Lobster Conservation Management Areas (Areas) Area 2 and the Outer Cape Area based upon historical participation within the fishery. The third proposed measure would implement an individual transferable trap program (ITT) in three Areas--Area 2, Area 3, and the Outer Cape Area. The DEIS evaluates four ITT alternatives. NMFS has not selected a preferred alternative to implement the ITT program. NMFS will hold public meetings to receive comments on the potential biological, economic, and social impacts of proposed measures evaluated in this DEIS.

DATES: Written comments on the DEIS must be received no later than 5 p.m., Eastern Standard Time, on June 29, 2010. Also, verbal comments may be presented at public meetings which are scheduled to be held in Maine, New Hampshire, Massachusetts, Rhode Island, New York, and New Jersey. See SUPPLEMENTARY INFORMATION for meeting dates, times, locations, and special accommodations.

ADDRESSES: Written comments on the DEIS may be submitted by any one of the following methods:

• Electronic submissions: Submit all electronic public comments to the following email address: LobsterComment@noaa.gov

• Mail: Lobster Comments - Sustainable Fisheries Division, National Marine Fisheries Service, Northeast Region, 55 Great Republic Drive, Gloucester, MA 01930-2298.

• Fax: (978) 281-9117.

• Hand Delivery or Courier: Deliver comments to the above Mail address.

Instructions: All comments received are part of the public record and will generally be available without change. All Personal Identifying Information (for example, name, address, etc.) voluntarily submitted by the commenter may be publically accessible. Do not submit Confidential Business Information or otherwise sensitive or protected information. NMFS will accept anonymous comments. Attachments to electronic comments will be accepted in Microsoft Word, Excel, WordPerfect, or Adobe PDF file formats only.

Copies of the DEIS, which includes a draft environmental impact statement, an initial regulatory impact review, and an initial regulatory flexibility analysis, are available from the Sustainable Fisheries Division, National Marine Fisheries Service, 55 Great Republic Drive, Gloucester, MA 01930-2298 mark the outside of the envelope Lobster DEIS; fax: (978) 281-9117; email: RequestDEIS@noaa.gov; telephone 978-675-2162. The DEIS is also available at the Northeast Regional Office website: http://www.nero.noaa.gov/nero/ and select menu item “Hot News”.

FOR FURTHER INFORMATION CONTACT: Bob Ross, NMFS, Northeast Region, telephone: (978) 675-2162; fax (978) 281-9117; email: Bob.Ross@noaa.gov.

SUPPLEMENTARY INFORMATION: NMFS is considering several new management measures for the American lobster fishery in Federal waters in response to the Commission's recommendations in the lobster ISFMP.

Limited Access Program

NMFS is considering implementing a limited access program to control fishing effort in the lobster trap fishery in the Federal waters of Area 2 (the management area that includes the state and Federal waters adjacent to southern MA and RI), and in the Outer Cape Area (the management area that includes the state and Federal waters adjacent to Cape Cod, MA). Future trap fishing access in Area 2 and the Outer Cape Area would be limited to only those Federal permit holders who can substantiate a history of trap fishing in these areas. Under the Commission's plan (NMFS's preferred Alternative), the eligibility criteria for access to these management areas would be based upon industry advice developed by the ISFMP's lobster conservation management teams, and approved by the Commission in Addenda VII and XIII to the ISFMP.

In the Outer Cape Area, eligible permit holders would have to meet all of the following criteria:

1. Federal lobster permit holders would be qualified to fish with traps under a limited access program in the Outer Cape Area based on a demonstration of prior trap fishing history (1999-2001) within the Outer Cape Area.

2. Once qualified, individual history-based trap allocations for Outer Cape Area Federal lobster permit holders would be based on effective traps fished during 2000-2002.

In Area 2, eligible permit holders would have to meet all of the following criteria:

1. Federal lobster permit holders would be qualified to fish with traps under a limited access program in Area 2 based on a demonstration of prior trap fishing history (2001-2003) in Area 2.

2. Once qualified, individual history-based trap allocations for Area 2 Federal lobster permit holders would be based on effective traps fished during 2001-2003.

Individual Transferable Trap Program

This DEIS also analyzes the potential biological, social, and economic impacts of an individual transferable trap program for three lobster Areas: Area 2; the Outer Cape Area; and Area 3 (the offshore Area from the U.S./Canada border to Cape Hatteras, NC). The proposed ITT program would allow Federal lobster permit holders fishing with traps in Area 2, the Outer Cape Area, and Area 3, once qualified and in receipt of an individual history based trap allocation, to transfer (buy and/or sell) blocks of lobster traps to other lobstermen. By allowing fishers to buy and sell lobster traps, the ITT program is meant to provide permit holders with opportunities to enhance economic efficiency or respond to inadequate trap allocation by obtaining additional allocation from other fishers who may want to scale down their own business or leave the fishery. With each transfer of traps, a percentage of the total traps transferred, ranging from 10 to 20 percent, would be permanently eliminated as a resource conservation tax. In the long run, however, the primary purpose of a transferable trap program is to improve the overall economic efficiency of the lobster industry.

NMFS has not selected a preferred alternative to implement an ITT program in this DEIS. This DEIS evaluates the following four proposed ITT alternatives for public comment:

1. No Action ITT Alternative - No Federal trap transfer program would be implemented. State-level trap transfer programs, currently in Area 2, and the Outer Cape Area, would continue.

2. Commission ITT Alternative - Qualifiers in Area 2, Area 3, and the Outer Cape Area would be allowed to buy and sell traps subject to Area-specific conservation taxes and trap limits.

3. ITT for Area 3 Only - Trap transfers would be limited to Area 3 Federal permit holders only and would be administered by NMFS. All transfers would be in increments of 50 or more traps, and subject to a conservation tax.

4. Optional ITT Program - Qualifiers would not be obligated to take part in the transferability program, but could choose to do so, subject to a number of additional parameters designed to make the application of an ITT program more uniform across Area jurisdictions.

Public Meeting Dates, Times, and Locations

NMFS will hold six public meetings to receive comments on the potential biological, economic, and social impacts of proposed measures evaluated in this DEIS. The dates, times, and locations of the meetings are scheduled as follows:

1. Monday, May 24, 2010, 3 p.m.--Gulf of Maine Research Institute, 350 Commercial Street, Portland, ME.

2. Tuesday, May 25, 2010, 3 p.m.--Urban Forestry Center, 45 Elwyn Road, Portsmouth, NH.

3. Tuesday, June 1, 2010, 3 p.m.--Chatham Community Center, 702 Main Street, Chatham, MA.

4. Wednesday, June 2, 2010, 3 p.m--Narragansett Town Hall Assembly Room, 25 Fifth Street, Narragansett, RI.

5. Monday, June 7, 2010, 3 p.m.--Riverhead Town Board Room at Town Hall, 200 Howell Ave, Riverhead, NY.

6. Tuesday, June 8, 2010, 3 p.m.--Rutgers Cooperative Extension, Cape May Court House, 355 Court House/South Dennis Road (Route 657), Cape May Court House, NJ.

Special Accommodations

These meetings are physically accessible to people with disabilities. Requests for sign language interpretation or other auxiliary aids should be directed to Bob Ross (see FOR FURTHER INFORMATION CONTACT) at least 5 days prior to the meeting date.

Authority: 16 U.S.C. 1801 et seq.

Dated: April 28, 2010.
James P. Burgess,
Acting Director, Office of Sustainable Fisheries, National Marine Fisheries Service.

[FR Doc. 2010-10262 Filed 4-30-10; 8:45 am]

BILLING CODE 3510-22-S